DEPARTMENT OF LABOR

Employment and Training Administration

[TA-W-62,316]

Meco Corporation, Greeneville, TN; Notice of Termination of Investigation

Pursuant to Section 221 of the Trade Act of 1974, as amended, an investigation was initiated on October 17, 2007 in response to a petition filed by a company official on behalf of workers at Meco Corporation, Greeneville, Tennessee.

The petitioner has requested that the petition be withdrawn. Consequently, the investigation has been terminated.

Signed at Washington, DC this 24th day of October 2007.
Elliott S. Kushner,
Certifying Officer, Division of Trade Adjustment Assistance.

[FR Doc. E7-21351 Filed 10-30-07; 8:45 am]

BILLING CODE 4510-FN-P